DEPARTMENT OF JUSTICE

Notice of Lodging of Proposed Consent Decree Under the Comprehensive Environmental Response, Compensation, and Liability Act

On January 3, 2019, the Department of Justice lodged a proposed Consent Decree with the United States District Court for the Eastern District of Wisconsin in the lawsuit entitled United States and the State of Wisconsin v. NCR Corp., et al., Civil Action No. 10-cv-910.

In 2010, the United States and the State of Wisconsin filed this action under the Comprehensive Environmental Response, Compensation, and Liability Act, 42 U.S.C. 9601-9675. The United States and the State brought claims against P.H. Glatfelter Company (“Glatfelter”), Georgia-Pacific Consumer Products LP (“Georgia-Pacific”), and other defendants for recovery of response costs and natural resource damages, as well as enforcement of an administrative cleanup order issued by the U.S. Environmental Protection Agency (“EPA”), concerning polychlorinated biphenyl contamination in sediment at the Lower Fox River and Green Bay Superfund Site in northeastern Wisconsin (the “Site”). Most of the original defendants entered into earlier, court-approved settlements with the United States and the State.

The proposed Consent Decree with Glatfelter and Georgia-Pacific would end this litigation on agreed terms and conditions. Glatfelter would pay a total of $20.5 million—with $20 million applied toward EPA's unreimbursed past response costs and $500,000 applied toward natural resource damages—and Glatfelter would pay all future EPA and State costs of overseeing the remaining work at the Site. Glatfelter would dismiss its pending appeal of a separate consent decree that requires a prior settler, NCR Corporation, to finish all dredging and sediment cap installation work at the Site. Glatfelter and Georgia-Pacific also would agree to perform all required long-term monitoring and cap maintenance work under the new settlement.

The publication of this notice opens a period for public comment on the Consent Decree. Comments should be addressed to the Assistant Attorney General, Environment and Natural Resources Division, and should refer to United States and the State of Wisconsin v. NCR Corp., et al., D.J. Ref. No. 90-11-2-1045/3. Interested parties also may request a public meeting in the affected area pursuant to 42 U.S.C. 6973(d). All comments and meeting requests must be submitted no later than thirty (30) days after the publication date of this notice. Comments and meeting requests may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ-ENRD, P.O. Box 7611, Washington, DC 20044-7611.

Please enclose a check or money order for $20.25 (25 cents per page reproduction cost) payable to the United States Treasury.

Randall Stone,
Acting Assistant Section Chief, Environmental Enforcement Section, Environment and Natural Resources Division.

[FR Doc. 2019-00444 Filed 1-30-19; 8:45 am]

BILLING CODE 4410-15-P